DEPARTMENT OF THE INTERIOR

National Park Service

Notice of Inventory Completion: Horner Collection, Oregon State University, Corvallis, OR

AGENCY: National Park Service, Interior.

ACTION: Notice.

Notice is here given in accordance with the Native American Graves Protection and Repatriation Act (NAGPRA), 25 U.S.C. 3003, of the completion of an inventory of human remains in the possession of the Horner Collection, Oregon State University, Corvallis, OR. The human remains were removed from an unknown location along the Yukon River, AK.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Horner Collection, Oregon State University professional staff. The Calista Corporation and Doyon, Ltd. Were advised of the human remains, but did not participate in consultation.

The Museum of the Oregon Country, Oregon Agricultural College was renamed the John B. Horner Museum of the Oregon Country in 1936, and became commonly known as the Horner Museum. The Oregon Agricultural College was renamed the Oregon State College in 1937, and became Oregon State University in 1962. The Horner Museum closed in 1995. Currently, cultural items from the Horner Museum are referred to as the Horner Collection, which is owned by, and in the possession of, Oregon State University.

In 1934, human remains representing a minimum of one individual were removed from an unknown location along the Yukon River, AK. In 1949, the human remains were donated to the Horner Museum by Mrs. Josephine C. Lloyd. It was Mrs. Lloyd's husband who had originally collected the human remains. No known individual was identified. No associated funerary objects are present.

Member tribes of the Calista Corporation and Doyon, Ltd. have occupied the area along the Yukon River since time immemorial and that occupation continues today.

Officials of the Horner Collection, Oregon State University have determined that, pursuant to 25 U.S.C. 3001 (9-10), the human remains described above represent the physical remains of one individual of Native American ancestry. Lastly, officials of the Horner Collection, Oregon State University have determined that, pursuant to 25 U.S.C. 3001 (2), there is a relationship of shared group identity that can be reasonably traced between the Native American human remains and associated funerary objects and the Calista Corporation and Doyon, Ltd.

Representatives of any other Indian tribe that believes itself to be culturally affiliated with the human remains should contact Sabah Randhawa, Executive Vice President and Provost, President's Office, Oregon State University, 600 Kerr Administration Building, Corvallis, OR 97331, telephone (541) 737-8260, before August 28, 2006. Repatriation of the human remains to the Calista Corporation and Doyon, Ltd. may proceed after that date if no additional claimants come forward.

The Horner Collection, Oregon State University is responsible for notifying the Calista Corporation and Doyon Ltd. that this notice has been published.

Dated: June 20, 2006.
Sherry Hutt,
Manager, National NAGPRA Program.

[FR Doc. E6-12027 Filed 7-26-06; 8:45 am]

BILLING CODE 4312-50-S